DEPARTMENT OF DEFENSE

Corps of Engineers

Intent To Prepare a Draft Environmental Impact Statement for the Proposed Preserve at Sunridge, in Rancho Cordova, Sacramento County, CA, Permit Application Number SPK-2004-00707

AGENCY: Department of the Army, U.S. Army Corps of Engineers, DOD.

ACTION: Notice of intent.

SUMMARY: The U.S. Army Corps of Engineers, Sacramento District, (Corps) will prepare an Environmental Impact Statement (EIS) for The Preserve at Sunridge project, a mixed-use residential and commercial development in Rancho Cordova, Sacramento County, CA. K. Hovnanian Homes has applied for a Department of the Army permit to fill approximately 14.5 acres of waters of the United States, including wetlands, to construct the project.

ADDRESSES: Please send written comments to Michael Jewell, U.S. Army Corps of Engineers, Sacramento District, 1325 J Street, Room 1480, Sacramento, CA, 95814-2922.

FOR FURTHER INFORMATION CONTACT: Questions about the proposed action and EIS can be answered by Michael Jewell, (916) 557-6605, e-mail: michael.s.jewell@usace.army.mil, address: 1325 J Street, Room 1480, Sacramento, CA 95814-2922.

SUPPLEMENTARY INFORMATION: K. Hovnanian Homes has applied for a Department of the Army permit under Section 404 of the Clean Water Act to construct a mixed-use development on a 530-acre parcel within the Sunrise Douglas Community Plan (SDCP) area in the southeastern portion of the City of Rancho Cordova in eastern Sacramento County, CA. The proposed action includes 2,415 single-family residential units of varying densities on 292 acres, 288 high-density multi-family residential units on 11 acres, between 147,000 and 165,000 square feet of commercial space spread over 15 building pads, an elementary school, stormwater management facilities, and a neighborhood park. The proposed action also includes realigning Morrison Creek through an existing transmission corridor that traverses the site and establishing a 92-acre open space and wetland preserve.

Approximately 20.8 acres of water of the United States have been identified on the proposed project site, including 15.2 acres of vernal pools, 2.8 acres of depressional seasonal wetlands, 1.7 acres of riverine seasonal wetlands and 1.1 acres of intermittent drainage. The applicant has applied for a permit to fill 14.5 acres of these waters. The 92-acre open space and wetland preserve would contain approximately 6.3 acres of wetlands not directly impacted by the project.

The EIS will include an evaluation of a reasonable range of alternatives. Currently, the following alternatives are expected to be analyzed in detail: (1) The no action alternative (no permit issued), (2) the applicant's preferred project (proposed action), (3) a “Conceptual-Level Strategy” alternative, (4) a reduced development footprint alternative, and (5) a different location (off-site) alternative. The no action alternative assumes limited development would occur on the site with all waters of the United States avoided. The Conceptual-Level Strategy alternative assumes development consistent with the June 2004 “Conceptual-Level Strategy for Avoiding, Minimizing, and Preserving Aquatic Resource Habitat in the Sunrise-Douglas Community Plan Area”, a guidance document prepared by the U.S. Environmental Protection Agency, U.S. Fish and Wildlife Service and U.S. Army Corps of Engineers. A reduced development footprint alternative will have a smaller development footprint than the applicant's preferred project but with more direct impacts to waters of the United States than the Conceptual-Level Strategy alternative. The off-site alternative assumes the proposed project would be developed at a different but suitably-sized site in the region.

The Corps' scoping process for the EIS includes a public involvement program with several opportunities to provide oral and written comments. In addition to public meetings and notifications in the Federal Register, the Corps will issue public notices when the draft and final EISs are available. Affected federal, state, and local agencies, Native American tribes, and other interested private organizations and parties are invited to participate.

Potentially significant issues to be analyzed in the EIS include, but are not limited to: Hydrology, water supply, water quality, cultural resources, biological resources, traffic and transportation, and air quality. The Corps is the lead agency for preparation of the EIS under the requirements of the National Environmental Policy Act (NEPA). The U.S. Environmental Protection Agency, U.S. Fish and Wildlife Service and California Regional Water Quality Control Board have agreed to be cooperating agencies. The Corps will also coordinate with other agencies, such as the City of Rancho Cordova.

Other environmental review and consultation requirements for the proposed action include the need for the applicant to obtain water quality certification under Section 401 of the Clean Water Act from the California Regional Water Quality Control Board. In addition, because the proposed project may affect federally-listed endangered species, the Corps will formally consult with the U.S. Fish and Wildlife Service in accordance with Section 7 of the Federal Endangered Species Act. The Corps will also be consulting with the State Historic Preservation Officer under Section 106 of the National Historic Preservation Act concerning properties listed, or potentially eligible for listing, on the National Register of Historic Places.

Two public scoping meetings for the EIS will be held on December 11, 2008, with the first from 4 p.m. to 6 p.m. and the second from 7 p.m. to 9 p.m. The meetings will be held at the Rancho Cordova City Hall, 2729 Prospect Park Drive, American River Room—South, Rancho Cordova, CA 95670. Interested parties can provide oral and written comments at the meetings. Interested parties may also submit written comments on this notice. Scoping comments should be submitted before February 1, 2008 but may be submitted at any time prior to publication of the Draft EIS.

Interested parties may register for the Corps' public notice e-mail notification lists at: http://www.spk.usace.army.mil/organizations/cespk-co/regulatory/pnlist.html.

Dated: November 17, 2008.
James A. Porter,
Lt. Colonel, Corps of Engineers, Acting District Engineer.

[FR Doc. E8-28273 Filed 11-26-08; 8:45 am]

BILLING CODE 3720-58-P